DEPARTMENT OF VETERANS AFFAIRS

[OMB Control No. 2900-0606]

Agency Information Collection Activity: Regulation for Submission of Evidence

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 27, 2017.

ADDRESSES: Submit written comments on the collection of information through Federal Docket Management System (FDMS) at www.Regulations.gov or to Brian McCarthy, Veterans Health Administration, Office of Regulatory and Administrative Affairs (10B4), Department of Veterans Affairs, 810 Vermont Avenue NW., Washington, DC 20420 or email to Brian.McCarthy4@va.gov. Please refer to “OMB Control No. 2900-0606” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: U.S. Code: 38 U.S.C. 1729.

Title: Regulation for Submission of Evidence—Title 38 CFR 17.101(a)(4).

OMB Control Number: 2900-0606.

Type of Review: Renewal of a currently approved collection.

Abstract: Under the provisions of 38 CFR, Section 17.101(a)(4), entitled “Amount of Recovery or Collection—Third Party Liability”, a third-party payer that is liable for reimbursing VA for health care VA provided to Veterans with non- service-connected conditions continues to have the option of paying either the billed charges as described in Section 17.101 or the amount the health plan demonstrates it would pay to providers other than entities of the United States for the same care or services in the same geographic area. If the amount submitted for payment is less than the amount billed, VA will accept the submission as payment, subject to verification at VA's discretion. A VA employee having responsibility for collection of such charges may request that the third party payer submit evidence or information to substantiate the appropriateness of the payment amount (e.g., health plan policies, provider agreements, medical evidence, proof of payment to other providers demonstrating the amount paid for the same care and services VA provided). This information would be needed to determine whether the third-party payer has met the test of properly demonstrating its equivalent private sector provider payment amount for the same care or services and within the same geographic area as provided by VA. This form provides for requesting patient medical records, health plan policies, provider agreements and any type or records that provide evidence of medical services and proof of payments made to others for the same medical care and services.

If VA accepts the submitted payment that is less than the billed charges, the third party payer can be subject to rate verification. In the event that rate verification is conducted, the results can be used to negotiate better rates, recoup underpayments, or amend agreements. Absent a third party payer agreement, VA should also be reimbursed billed charges or the amount third party payers would pay to non-government entities.

Affected Public: Individuals and households.

Estimated Annual Burden: 800 hours.

Estimated Average Burden per Respondent: 120 minutes.

Frequency of Response: Annually.

Estimated Number of Respondents: 400.

By direction of the Secretary.
Cynthia Harvey-Pryor,
Department Clearance Officer Office of Quality and Compliance, Department of Veterans Affairs.

[FR Doc. 2017-18158 Filed 8-25-17; 8:45 am]

BILLING CODE 8320-01-P